GENERAL SERVICES ADMINISTRATION

Notice of Public Meeting and Intent To Prepare an Environmental Assessment

The General Services Administration (GSA) announces its intent to prepare an Environmental Assessment (EA) for the proposed development of a new Census Bureau building at the Suitland Federal Center (SFC), and to conduct a public meeting to discuss the project. The proposed Census Bureau building will consolidate and replace the Census Bureau's current office space located at its existing headquarters in Federal Office Building-3 (F.O.B-3) at the SFC, and at overflow facilities in F.O.B.-4 at the SFC and at other locations in Prince George's County. GSA plans to build the new Census Bureau facility because the space requirements of the Census Bureau exceed the current capacity at their existing headquarters building and because working conditions at the existing Census Bureau facilities are inadequate.

GSA will prepare the EA pursuant to section 102(2)(C) of the National Environmental Policy Act (NEPA) of 1969, as amended, as implemented by the Council on Environmental Quality (40 CFR parts 1500-1508), Section 106 of the National Historic Preservation Act of 1966, as amended, and in accordance with GSA's environmental policies and procedures set forth in the NEPA Desk Guide (GSA Order ADM 1095.1F Environmental Considerations in Decisionmaking). The environmental assessment will determine whether GSA's decision to build a new Census Bureau Building at the SFC would significantly affect the quality of the human environment, and hence require an environmental impact statement (EIS), or a finding of no significant impact (FONSI) under NEPA.

The Proposed Action is the development of new and improved space to house the Census Bureau. The project alternatives will include (A) a new building for the Census Bureau and demolition of FOB-3, (B) a new building for the Census Bureau that allows FOB-3 to remain for another use, and (C) a no action alternative that would not include a new building for the Census Bureau.

The EA will evaluate the effects of the project alternatives on land use, socio-economic, transportation, cultural, and natural resources. The EA will consider the potential for short-term, long-term, and cumulative impacts.

The Census Bureau project represents Phase 2 of the SFC development plan. As such, the EA will be tiered from the Final EIS for the Programmatic Development Plan and Phase I Implementation prepared by GSA in September 2001.

A public meeting will be held to determine the significant issues related to development of the new Census Bureau building and the long-term use of the Suitland Federal Center. The meeting will serve as part of the formal environmental review/scoping process for the preparation of the EA. It is important that Federal, regional, state, county and local agencies, and interested individuals and groups take this opportunity to identify environmental concerns that should be addressed during preparation of the EA. The public and review agencies are also encouraged to submit written comments on the potential impacts of the proposed Census Bureau development plan. Public comments received will be considered for determining the issues to be assessed in the environmental document. The public and review agencies are encouraged to provide additional comments once the EA is released.

The public scoping meeting will be held: Wednesday, May 1st at 7 p.m. at the Suitland Federal Center, Community Room, 4211 Suitland Road, Suitland, Maryland.

Adequate signs will be posted on the building to direct meeting participants. The meeting will begin with a brief presentation of the project and the environmental impact assessment process. After the presentation, GSA representatives will be available to receive comments from the public regarding issues of concern and the scope of the EA. In the interest of available time, each speaker will be asked to limit oral comments to five minutes.

Agencies and the general public are invited and encouraged to provide written comments on the scoping issues in addition to, or in lieu of, oral comments at the public meeting. To be most helpful, environmental review/scoping comments should clearly describe specific issues or topics that the community believes the EA should address. All written comments regarding the proposed project must be postmarked no later than May 12, 2002 to: General Services Administration, Attn: Mr. Jag Bhargava, Project Executive, Capital Development Division, 7th and D Streets, SW., Room 2110, Washington, DC 20407.

For further information please contact: Mr. Jag Bhargava, General Services Administration (202-708-6944) E-mail: jag.bhargava@gsa.gov

Dated: April 8, 2002.
Jag Bhargava,
Project Executive.

[FR Doc. 02-8976 Filed 4-12-02; 8:45 am]

BILLING CODE 6820-14-M